FEDERAL COMMUNICATIONS COMMISSION

47 CFR parts 22, 24, 27, 87 and 90

[WT Docket No. 13-301; FCC 13-157; DA 14-327]

Expanding Access to Mobile Wireless Services Onboard Aircraft

AGENCY: Federal Communications Commission.

ACTION: Proposed rule; extension of comment period.

SUMMARY: The Federal Communications Commission extends the deadline for filing reply comments on the Commission's Notice of Proposed Rulemaking (NPRM), in this proceeding, which was published in the Federal Register on Wednesday, January 15, 2014. Interested parties now will have until May 16, 2014, to file reply comments, as opposed to the March 17, 2014, deadline set forth in the NPRM.

DATES: The reply comment period for the proposed rule published January 15, 2014 (79 FR 2615), is extended. Submit reply comments on or before May 16, 2014.

ADDRESSES: You may submit comments, identified by WT Docket No. 13-301 or FCC 13-157, by any of the following methods:

Federal Communications Commission's Web site: http://fjallfoss.fcc.gov/. Follow the instructions for submitting comments.

Mail: FCC Headquarters, 445 12th St. SW., Washington, DC 20554.

People with Disabilities: Contact the FCC to request reasonable accommodations (accessible format documents, sign language interpreters, CART, etc.) by email: FCC504@fcc.gov or phone: (202) 418-0530 or TTY: (202) 418-0432.

For detailed instructions for submitting comments and additional information on the rulemaking process, see the SUPPLEMENTARY INFORMATION section of this document.

FOR FURTHER INFORMATION CONTACT: Amanda Huetinck of the Mobility Division, Wireless Telecommunications Bureau, at (202) 418-7090 or Amanda.Huetinck@fcc.gov.

SUPPLEMENTARY INFORMATION: Pursuant to §§ 1.415 and 1.419 of the Commission's rules, 47 CFR 1.415 and 1.419, interested parties may file comments and reply comments on or before the dates indicated on the first page of this document. Comments may be filed using the Commission's Electronic Comment Filing System (ECFS). See Electronic Filing of Documents in Rulemaking Proceedings, 63 FR 24121, May 1, 1998.

Electronic Filers: Comments may be filed electronically using the Internet by accessing the ECFS: http://fjallfoss.fcc.gov/ecfs2/.

Paper Filers: Parties who choose to file by paper must file an original and one copy of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

All hand-delivered or messenger-delivered paper filings for the Commission's Secretary must be delivered to FCC Headquarters at 445 12th St. SW., Room TW-A325, Washington, DC 20554. The filing hours are 8:00 a.m. to 7:00 p.m. All hand deliveries must be held together with rubber bands or fasteners. Any envelopes and boxes must be disposed of before entering the building.

Commercial overnight mail (other than U.S. Postal Service Express Mail and Priority Mail) must be sent to 9300 East Hampton Drive, Capitol Heights, MD 20743.

U.S. Postal Service first-class, Express, and Priority mail must be addressed to 445 12th Street SW., Washington, DC 20554.

People with Disabilities: To request materials in accessible formats for people with disabilities (braille, large print, electronic files, audio format), send an email to fcc504@fcc.gov or call the Consumer & Governmental Affairs Bureau at 202-418-0530 (voice), 202-418-0432 (tty).

Synopsis

By this document, we extend the deadline for filing reply comments in response to the NPRM in WT Docket No. 13-301 to allow parties to more thoroughly address the technical issues raised in the NPRM and in the record. Interested parties now will have until May 16, 2014, to file reply comments.

On February 28, 2014, AeroMobile Communications Limited (“AeroMobile”) and Panasonic Avionics Corporation (“Panasonic”), jointly, and CTIA—The Wireless Association (“CTIA”) filed requests to extend the reply comment deadline in response to the NPRM by 60 days, to May 16, 2014. The Joint Motion and the CTIA Request contend that this extension is warranted for parties to properly address the complicated technological, legal, and policy issues raised by the NPRM and the initial comments. The Joint Motion and the CTIA request also assert that the additional time will provide various stakeholders—including AeroMobile, Panasonic, and CTIA—ample opportunity to consult with each other on technical issues.

Specifically, the Joint Motion states that more time is necessary for consultations regarding “the technical studies and authorization regime supporting in-flight mobile communications in Europe and elsewhere.” The Joint Motion also notes that an extension of time would “enable interested parties to consider comments submitted in other proceedings, including the Department of Transportation Advance Notice of Proposed Rulemaking seeking comment on voice services onboard aircraft.”

The CTIA Request similarly states that an extension is needed so that parties can “conduct much needed interference and other technological analyses, consider other existing studies beyond those discussed in the NPRM, and follow up on questions and issues sparked by commenters who discussed the inflight systems that have been deployed abroad.” The CTIA Request also notes the large number of comments that have been filed in the docket, stating that “[t]he Commission should strive to ensure that the record contains a meaningful opportunity to contribute input into this highly watched rulemaking.”

It is the general policy of the Commission that extensions of time shall not be routinely granted. However, under these circumstances, we agree that an extension of time to file reply comments is warranted to ensure that the Commission obtains a complete and thorough technical record in response to the NPRM. The NPRM specifically sought comment on technological solutions that may enable interference-free operation of wireless devices aboard airborne aircraft, and requested that commenters provide technical analysis in support of their comments. We conclude that a short extension of time is warranted to enable interested parties sufficient opportunity to review and respond to the complex technical issues raised by the NPRM. Accordingly, pursuant to § 4(i) of the Communications Act of 1934, as amended, and § 1.46 of the Commission's rules, we extend the deadline for filing reply comments until May 16, 2014.

Federal Communications Commission.
Roger Sherman,
Chief, Wireless Telecommunications Bureau.

[FR Doc. 2014-05913 Filed 3-13-14; 4:15 pm]

BILLING CODE 6712-01-P